DEPARTMENT OF ENERGY

Federal Energy Regulatory Commission

[Docket No. AD14-7-000]

Third-Party Provision of Reactive Supply and Voltage Control and Regulation and Frequency Response Services; Supplemental Notice of Workshop

On February 20, 2014, the Federal Energy Regulatory Commission (FERC or Commission) announced that staff will convene a workshop on Tuesday, April 22, 2014 to obtain input on third-party provision of reactive supply and voltage control and regulation and frequency response services. The staff-led workshop will be held in the Commission Meeting Room at the Commission's headquarters at 888 First Street NE., Washington, DC 20426 from 9 a.m. to 3 p.m. eastern daylight time (EDT). Members of the Commission may attend the workshop, which will also be open for the public to attend. Advance registration is not required, but encouraged. Attendees may register at the following Web page: https://www.ferc.gov/whats-new/registration/04-22-14-form.asp.

Attached to this supplemental notice is an agenda for the workshop. If any changes are made, the revised agenda will be posted prior to the event on the Calendar of Events on the Commission's Web site, www.ferc.gov. In addition to this Supplemental Notice, staff is concurrently issuing in this docket a Staff Report, “Payment for Reactive Power.” In the report, staff highlights some of the topics to be explored with respect to Schedule 2 service. The Staff Report can be found on the Commission's Web site, http://www.ferc.gov/legal/staff-reports/2014/04-11-14-reactive-power.pdf.

This workshop is not intended to address the substance of any particular case pending before the Commission. Those who wish to file written comments may do so by June 9, 2014. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number AD14-7-000.

The workshop will be transcribed. There will also be a free webcast of the workshop. Anyone with Internet access interested in viewing this workshop can do so by navigating to the FERC Calendar of Events at www.ferc.gov and locating this event in the Calendar. The event will contain a link to its webcast. The Capitol Connection provides technical support for the webcasts and offers the option of listening to the workshop via phone-bridge for a fee. If you have any questions, visit www.CapitolConnection.org or call (703) 996-3100.

FERC workshops are accessible under section 508 of the Rehabilitation Act of 1973. For accessibility accommodations please send an email to accessibility@ferc.gov or call toll free (866) 208-3372 (voice) or (202) 502-8659 (TTY), or send a fax to (202) 208-2106 with the requested accommodations.

For more information about this workshop, please contact Rahim Amerkhail at rahim.amerkhail@ferc.gov or (202) 502-8266. For information related to logistics, please contact Sarah McKinley at sarah.mckinley@ferc.gov or (202) 502-8004.

Dated: April 14, 2014.
Kimberly D. Bose,
Secretary.

BILLING CODE 6717-01-P

[FR Doc. 2014-09948 Filed 4-30-14; 8:45 am]

BILLING CODE 6717-01-C